DEPARTMENT OF HEALTH AND HUMAN SERVICES

Centers for Disease Control and Prevention

[30Day-09-0762]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Formative Research to Inform an HIV Testing Social Marketing Campaign for African American Men Who Have Sex with Men (MSM), formally known as Formative Research to Inform an HIV Testing Social Marketing Campaign for African American Heterosexual Men [OMB No. 0920-0762] [exp. 01/31/2011]—Revision—National Center for HIV/AIDS, Viral Hepatitis, Sexually Transmitted Diseases, and Tuberculosis Elimination Programs (NCHHSTP), Centers for Disease Control and Prevention (CDC).

Background and Brief Description

The purpose of the proposed revised study is to conduct formative research for the development of an HIV testing social marketing campaign for African American MSM, a CDC-sponsored social marketing campaign aimed at increasing HIV testing rates among young, African American MSM. The study entails conducting interviews with a sample of African American MSM, ages 18 to 44 to: (1) Explore participants' knowledge, attitudes and beliefs about HIV and HIV testing to inform the development of campaign messages; (2) identify the most motivating approach, supporting data, and key messages for materials development; (3) test creative concepts, potential campaign themes, logos and names; and (4) test creative materials developed based on the findings from the previous phases of the research. Findings from this study will be used by CDC and its partners to inform current and future program activities. Changes to the previous approved data collection consist of a change in the target audience from African American heterosexual men to African American Men who have sex with men. Instead of a combination of interviews and focus groups, now only interviews will be conducted.

A total of 288 participants will be screened for eligibility in 12 cities with high incidence and prevalence of HIV. Of the participants screened, 144 men will complete individual interviews and a short paper and pencil survey. Appropriate consent processes will be used to obtain verbal consent at the screening and interview phases of this study. The Institutional Review Board at CDC has approved the revised study. There are no costs to the respondents other than their time. The total annualized burden hours are 228.

Estimate of Annualized Burden Table
Type of respondents | Form name | Number of respondents | Number of responses per respondent | Average burden per response (in hours)
African American MSM | Screener | 288 | 1 | 10/60
| Interview | 144 | 1 | 1
| Paper and Pencil Survey | 144 | 1 | 15/60

Dated: August 19, 2009.
Maryam I. Daneshvar,
Acting Reports Clearance Officer, Centers for Disease Control and Prevention.

[FR Doc. E9-20374 Filed 8-24-09; 8:45 am]

BILLING CODE P